COURT SERVICES AND OFFENDER SUPERVISION AGENCY FOR THE DISTRICT OF COLUMBIA

28 CFR Part 803

[CSOSA-0007-F]

RIN 3225-AA05

Agency Seal

AGENCY: Court Services and Offender Supervision Agency for the District of Columbia.

ACTION: Final rule.

SUMMARY: The Court Services and Offender Supervision Agency for the District of Columbia (CSOSA or Agency) is adopting regulations on the use of its official seal and the official seal for the District of Columbia Pretrial Services Agency (PSA or Agency), an independent entity within CSOSA. Use by any person or organization may be made only with CSOSA's or PSA's prior written approval. Wrongful use of an official seal is subject to administrative action and/or criminal penalty.

Effective Date: May 20, 2004.

ADDRESSES: Office of the General Counsel, CSOSA, Room 1253, 633 Indiana Avenue, NW., Washington, DC 20004.

FOR FURTHER INFORMATION CONTACT: Roy Nanovic, Records Manager (telephone: (202) 220-5359; e-mail: roy.nanovic@csosa.gov.

SUPPLEMENTARY INFORMATION: CSOSA is adopting regulations (28 CFR 803) on the use of its official seal and the official seal for PSA, an independent entity within CSOSA.

CSOSA and PSA have each developed a seal which signifies the authoritativeness of the item or document to which it is affixed as an official endorsement of the Agency. The seals are to be used for official Agency business or as approved under CSOSA's regulations.

Matters of Regulatory Procedure

Administrative Procedure Act

A proposed rule on this subject was published in the Federal Register on April 22, 2003 (68 FR 19770). The Agency received no comment on this proposed rule. Accordingly, the Agency is adopting the proposed rule as final without change.

Any interested person, however, who wishes to submit further comments on the rule may do so by writing or e-mailing the agency at the addresses given above in the Addresses and For Further Information Contactcaptions. These comments will be considered but will not necessarily receive a response in the Federal Register.

Executive Order 12866

This rule has been determined to be significant under Executive Order 12866 and has been reviewed by the Office of Management and Budget.

Executive Order 13132

This rule will not have substantial direct effects on the States, on the relationship between the national government and the States, or on distribution of power and responsibilities among the various levels of government. Therefore, in accordance with Executive Order 13132, the Director of CSOSA had determined that this rule does not have sufficient federalism implications to warrant the preparation of a Federalism Assessment.

Regulatory Flexibility Act

The Director of CSOSA, in accordance with the Regulatory Flexibility Act (5 U.S.C. 605(b)), has reviewed this rule and by approving it certifies that this rule will not have a significant economic impact upon a substantial number of small entities. This rule pertains to agency management, and its economic impact is limited to the agency's appropriated funds.

Unfunded Mandates Reform Act of 1995

This rule will not result in the expenditure by State, local and tribal governments, in the aggregate, or by the private sector, of $100,000,000 or more in any one year, and it will not significantly or uniquely affect small governments. Therefore, the Director of CSOSA has determined that no actions are necessary under the provisions of the Unfunded Mandates Reform Act of 1995.

Small Business Regulatory Enforcement Fairness Act of 1996

This rule is not a major rule as defined by section 804 of the Small Business Regulatory Enforcement Fairness Act of 1996. This rule will not result in an annual effect on the economy of $1000,000,000 or more; a major increase in costs or prices; or significant adverse effects on competition, employment, investment, productivity, innovation, or on the ability of United States-based companies to compete with foreign-based companies in domestic and export markets.

Plain Language Instructions

We want to make CSOSA's documents easy to read and understand. If you have suggestions on how to improve the clarity of these regulations, write, e-mail, or call Roy Nanovic at the address or telephone number given above in the Addresses and For Further Information Contact captions.

List of Subjects in CFR Part 803

Probation and parole, Seals and insignia.

Paul A. Quander, Jr.
Director.

Accordingly, we amend chapter VIII, Title 28 of the Code of Federal Regulations by adding part 803 as set forth below.

PART 803—AGENCY SEAL

Sec.
803.1 Description.
803.2 Authority to affix seal.
803.3 Use of the seal.

Authority: 5 U.S.C. 301; Pub. L. 105-33, 111 Stat. 251, 712 (D.C. Code 24-1232, 24-1233).

§ 803.1 Description.

(a) The Agency seal of the Court Services and Offender Supervision Agency for the District of Columbia (CSOSA or Agency) is described as follows: General George Washington's coat of arms in red and white bounded by an outline of the District of Columbia and superimposed upon a blue field together with the dome of the United States Capitol building in gold; encircled by a banner with the words “Community, Accountability, and Justice” and gold laurel branches, with gold edges bearing the inscription “COURT SERVICES AND OFFENDER SUPERVISION AGENCY” above three stars at either side of the words “DISTRICT OF COLUMBIA” in smaller letters in the base; letters and stars in gold. A reproduction of the Agency seal in black and white appears as follows.

(b) The Agency seal of the District of Columbia Pretrial Services Agency (PSA or Agency) is described as follows: General George Washington's coat of arms in red and white bounded by an outline of the District of Columbia and superimposed upon a blue field together with the dome of the United States Capitol building in gold; encircled by a banner with the words “Community, Accountability, and Justice” and gold laurel branches, with gold edges bearing the inscription “DISTRICT OF COLUMBIA PRETRIAL SERVICES AGENCY”; letters in gold. A reproduction of the Agency seal in black and white appears as follows.

§ 803.2 Authority to affix seal.

The Director of CSOSA or PSA (as appropriate) and the Director's designees are authorized to affix the Agency seal (including replicas and reproductions) to appropriate documents, certifications, and other materials of all purposes authorized by this part.

§ 803.3 Use of the seal.

(a) The Agency seal is used by Agency staff for official agency business as approved by the appropriate Director or designee.

(b) Use of the Agency seal by any person or organization outside of the Agency may be made only with the appropriate prior written approval.

(1) Any request for such use must be made in writing to the Office of the General Counsel, Court Services and Offender Supervision Agency for the District of Columbia, 633 Indiana Avenue, NW., Washington, DC 20004, and must specify, in detail, the exact use to be made. Any permission granted by the appropriate Director or designee applies only to the specific use for which it was granted and is not to be construed as permission for any other use.

(2) The decision whether to grant such a request is made on a case-by-case basis, with consideration of all relevant factors, which may include: the benefit or cost to the government of granting the request; the unintended appearance of endorsement or authentication by the Agency; the potential for misuse; the effect upon Agency security; the reputability of the use; the extent of the control by the Agency over the ultimate use; and the extent of control by the Agency over distribution of any products or publications bearing the Agency seal.

(c) Falsely making, forging, counterfeiting, mutilating, or altering the Agency seal or reproduction, or knowingly using or possessing with fraudulent intent an altered Agency seal or reproduction is punishable under 28 U.S.C. 506.

(d) Any person using the Agency seal or reproduction in a manner inconsistent with the provisions of this part is subject to the provisions of 18 U.S.C. 1017, which states penalties for the wrongful use of an Agency seal, and other provisions of law as applicable.

[FR Doc. 04-8914 Filed 4-19-04; 8:45 am]

BILLING CODE 3129-01-M